DEPARTMENT OF HEALTH AND HUMAN SERVICES

Food and Drug Administration

[Docket No. FDA-2014-N-0001]

Science Board to the Food and Drug Administration Advisory Committee Meeting; Amendment of Notice

AGENCY: Food and Drug Administration, HHS.

ACTION: Notice.

SUMMARY: The Food and Drug Administration (FDA) is announcing an amendment to the notice of meeting of the Science Board to the Food and Drug Administration. This meeting was announced in the Federal Register of October 8, 2014. The amendment is being made to reflect changes in URL for the Webcast. There are no other changes.

FOR FURTHER INFORMATION CONTACT: Martha Monser, Office of the Chief Scientist, Food and Drug Administration, 10903 New Hampshire Ave., Bldg. 1, Rm. 3309, Silver Spring, MD 20993, 301-796-4627, or FDA Advisory Committee Information Line, 1-800-741-8138 (301-443-0572 in the Washington, DC area). Please call the Information Line for up-to-date information on this meeting.

SUPPLEMENTARY INFORMATION: In the Federal Register of October 8, 2014 (79 FR 60856), FDA announced that a meeting of the Science Board to the Food and Drug Administration would be held on November 19 and 20, 2014. On page 60857, in the first column, the URL information is changed to read as follows:

The link for the Webcast on November 19, 2014, is available at: https://collaboration.fda.gov/scienceboard111914/. The link for the Webcast on November 20, 2014, is available at: https://collaboration.fda.gov/scienceboard112014.

This notice is issued under the Federal Advisory Committee Act (5 U.S.C. app. 2) and 21 CFR part 14, relating to the advisory committees.

Dated: November 5, 2014.
Jill Hartzler Warner,
Associate Commissioner for Special Medical Programs.

[FR Doc. 2014-26821 Filed 11-12-14; 8:45 am]

BILLING CODE 4164-01-P